ENVIRONMENTAL PROTECTION AGENCY

[FRL-6601-8]

Office of Research and Development; Ambient Air Monitoring Reference and Equivalent Methods: Designation of Two New Reference Methods for PM2.5 and Four New Equivalent Methods for O3, SO2, NO2, and Pb

AGENCY: Environmental Protection Agency.

ACTION: Notice of designation.

SUMMARY: Notice is hereby given that the Environmental Protection Agency (EPA) has designated, in accordance with 40 CFR part 53, two new reference methods for measuring concentrations of PM2.5 and four new equivalent methods for measuring concentrations of O3, SO2, NO2, and Pb (respectively) in ambient air.

FOR FURTHER INFORMATION CONTACT: Frank F. McElroy, Human Exposure and Atmospheric Sciences Division (MD-46), National Exposure Research Laboratory, U.S. EPA, Research Triangle Park, NC 27711. Phone: (919) 541-2622, email: mcelroy.frank@epamail.epa.gov.

SUPPLEMENTARY INFORMATION: In accordance with regulations at 40 CFR part 53, the EPA examines various methods for monitoring the concentrations of certain pollutants in the ambient air. Methods that are determined to meet specific requirements for adequacy are designated as either reference or equivalent methods, thereby permitting their use under 40 CFR part 58 by States and other agencies for determining attainment of the National Ambient Air Quality Standards. EPA hereby announces the designation of two new reference methods for measuring concentrations of PM2.5 in ambient air and four new equivalent methods for measuring O3, SO2, NO2, and Pb (respectively) in ambient air. These designations are made under the provisions of 40 CFR part 53, as amended on July 18, 1997 (62 FR 38764).

The new reference methods for PM2.5 are manual monitoring methods based on particular, commercially available PM2.5 samplers. The newly designated methods are identified as follows:

RFPS-0400-135, “URG-MASS100 Single PM 2.5 FRM Sampler,” operated with software (firmware) version 4B or 5.0.1, configured for “Single 2.5” operation, for 24-hour continuous sample periods at a flow rate of 16.67 liters/minute, and in accordance with the URG-MASS100 Operator's Manual and with the requirements and sample collection filters specified in 40 CFR part 50, Appendix L.

RFPS-0400-136, “URG-MASS300 Sequential PM 2.5 FRM Sampler,” operated with software (firmware) version 4B or 5.0.1, configured for “Multi 2.5” operation, for 24-hour continuous sample periods at a flow rate of 16.67 liters/minute, and in accordance with the URG-MASS300 Operator's Manual and with the requirements and sample collection filters specified in 40 CFR part 50, Appendix L.

The application for reference method determinations for these methods was received by EPA on July 27, 1998, and a notice of the receipt of the application was published in the Federal Register on October 29, 1998. The methods are available commercially from the applicant, URG Corporation, 116 S. Merritt Mill Road, Chapel Hill, NC 27516.

The new equivalent methods for O3, SO2, and NO2 are automated methods (analyzers) that utilize a measurement principle based on differential optical absorption spectroscopy (DOAS) and measure pollutant concentrations directly in the atmosphere over a long, open path up to 500 meters in length, using a particular commercially available monitoring system. These newly designated methods are identified as follows:

EQOA-0400-137, Environnement S.A. Model SANOA Multigas Longpath Air Quality Monitoring System, consisting of a receiver, one or more projectors, interface unit, a user-provided control unit computer running the SANOA VisionAIR software, and associated incidental equipment; configured for measuring O3, with the temperature control and internal calibration cell options installed, operated with a measurement range of 0 to 0.5 ppm, over an installed monitoring path length of between 27 and 500 meters, within an ambient air temperature range of −30 to +45°C, with a measurement (integrating) time of 180 seconds, and with or without external temperature and barometric pressure sensors or any of the following options: external (meteo) input connection, series 1M bus connection, OGR type projector, analog outputs. A high-concentration ozone generator, part # 80-231-03, or the SONIMIX 7121B calibration system is recommended for calibration or accuracy auditing.

EQSA-0400-138, Environnement S.A. Model SANOA Multigas Longpath Air Quality Monitoring System, consisting of a receiver, one or more projectors, interface unit, a user-provided control unit computer running the SANOA VisionAIR software, and associated incidental equipment; configured for measuring SO2, with the temperature control and internal calibration cell options installed, operated with a measurement range of 0 to 0.5 ppm, over an installed monitoring path length of between 27 and 500 meters, within an ambient air temperature range of −30 to +45°C, with a measurement (integrating) time of 180 seconds, and with or without external temperature and barometric pressure sensors or any of the following options: external (meteo) input connection, series 1M bus connection, OGR type projector, analog outputs.

EQNA-0400-139, Environnement S.A. Model SANOA Multigas Longpath Air Quality Monitoring System, consisting of a receiver, one or more projectors, interface unit, a user-provided control unit computer running the SANOA VisionAIR software, and associated incidental equipment; configured for measuring NO2, with the temperature control and internal calibration cell options installed, operated with a measurement range of 0 to 0.5 ppm, over an installed monitoring path length of between 27 and 500 meters, within an ambient air temperature range of −30 to +45°C, with a measurement (integrating) time of 180 seconds, and with or without external temperature and barometric pressure sensors or any of the following options: external (meteo) input connection, series 1M bus connection, OGR type projector, analog outputs.

Applications for equivalent method determinations for these methods were received by EPA on February 17, 1999, June 28, 1999, and July 23, 1999, respectively. A notice of the receipt of these applications was published in the Federal Register on October 12, 1999. The methods are available commercially from the applicant, Environnement S.A., 111 Boulevard Robespierre, 78304 Poissy, France.

The new equivalent method for lead (Pb) is a manual method that uses the sampling procedure specified in the Reference Method for the Determination of Lead in Suspended Particulate Matter Collected from Ambient Air (40 CFR part 50, Appendix G), with an alternative analytical procedure. The method is identified as follows:

EQL-0400-140, “Determination of Lead Concentration in Ambient Particulate Matter by Inductively Coupled Plasma—Atomic Emission Spectrometry (TNRCC).”

The application for an equivalent method determination for this method was submitted by the Texas Natural Resource Conservation Commission Laboratory, 5144 E. Sam Houston Parkway N., Houston, TX 77030 and was received by the EPA on March 1, 2000.

Test samplers, test analyzers, or the analytical procedure representative of each of these methods have been tested by the respective applicants in accordance with the test procedures specified in 40 CFR part 53 (as amended on July 18, 1997). After reviewing the results of those tests and other information submitted by the respective applicants, EPA has determined, in accordance with part 53, that each of these methods should be designated as a reference or equivalent method, as appropriate. The information submitted by the applicants will be kept on file at EPA's National Exposure Research Laboratory, Research Triangle Park, North Carolina 27711 and will be available for inspection to the extent consistent with 40 CFR part 2 (EPA's regulations implementing the Freedom of Information Act).

As designated reference and equivalent methods, these methods are acceptable for use by states and other air monitoring agencies under the requirements of 40 CFR part 58, Ambient Air Quality Surveillance. For such purposes, each method must be used in strict accordance with the operation or instruction manual associated with the method, any specifications and limitations (e.g., sample period, flow rate, or path length) specified in the applicable method designation description (see identifications of the methods above), and the specifications and requirements set forth in Appendixes G, or L to 40 CFR part 50, as applicable. Use of the method should also be in general accordance with the guidance and recommendations of applicable sections of the “Quality Assurance Guidance Document 2.12” and the “Quality Assurance Handbook, Volume II” (both available at www.epa.gov/ttn/amtic). Vendor modifications of a designated reference or equivalent method used for purposes of part 58 are permitted only with prior approval of the EPA, as provided in part 53. Provisions concerning modification of such methods by users are specified under section 2.8 of Appendix C to 40 CFR part 58 (Modifications of Methods by Users).

In general, a method designation applies to any sampler or analyzer which is identical to the sampler or analyzer described in the application for designation. In some cases, similar samplers or analyzers manufactured prior to the designation may be upgraded (e.g., by minor modification or by substitution of the approved operation or instruction manual) so as to be identical to the designated method and thus achieve designated status at a modest cost. The manufacturer should be consulted to determine the feasibility of such upgrading.

Part 53 requires that sellers of designated reference or equivalent method analyzers or samplers comply with certain conditions. These conditions are given in 40 CFR 53.9 and are summarized below:

(a) A copy of the approved operation or instruction manual must accompany the sampler or analyzer when it is delivered to the ultimate purchaser.

(b) The sampler or analyzer must not generate any unreasonable hazard to operators or to the environment.

(c) The sampler or analyzer must function within the limits of the applicable perfor-mance specifications given in parts 50 and 53 for at least one year after delivery when maintained and operated in accordance with the operation or instruction manual.

(d) Any sampler or analyzer offered for sale as part of a reference or equivalent method must bear a label or sticker indicating that it has been designated as part of a reference or equivalent method in accordance with part 53 and showing its designated method identification number.

(e) If such an analyzer has two or more selectable ranges, the label or sticker must be placed in close proximity to the range selector and indicate which range or ranges have been included in the reference or equivalent method designation.

(f) An applicant who offers samplers or analyzers for sale as part of a reference or equivalent method is required to maintain a list of ultimate purchasers of such samplers or analyzers and to notify them within 30 days if a reference or equivalent method designation applicable to the method has been canceled or if adjustment of the sampler or analyzer is necessary under 40 CFR 53.11(b) to avoid a cancellation.

(g) An applicant who modifies a sampler or analyzer previously designated as part of a reference or equivalent method is not permitted to sell the sampler or analyzer (as modified) as part of a reference or equivalent method (although it may be sold without such representation), nor to attach a label or sticker to the sampler or analyzer (as modified) under the provisions described above, until the applicant has received notice under 40 CFR part 53.14(c) that the original designation or a new designation applies to the method as modified, or until the applicant has applied for and received notice under 40 CFR 53.8(b) of a new reference or equivalent method determination for the sampler or analyzer as modified.

(h) An applicant who offers PM2.5 samplers for sale as part of a reference or equivalent method is required to maintain the manufacturing facility in which the sampler is manufactured as an ISO 9001-certified facility.

(i) An applicant who offers PM2.5 samplers for sale as part of a reference or equivalent method is required to submit annually a properly completed Product Manufacturing Checklist, as specified in part 53.

Aside from occasional breakdowns or malfunctions, consistent or repeated noncompliance with any of these conditions should be reported to: Director, Human Exposure and Atmospheric Sciences Division (MD-77), National Exposure Research Laboratory, U.S. Environmental Protection Agency, Research Triangle Park, North Carolina 27711.

Designation of these new reference and equivalent methods is intended to assist the States in establishing and operating their air quality surveillance systems under 40 CFR part 58. Questions concerning the commercial availability or technical aspects of any of these methods should be directed to the appropriate applicant.

Norine E. Noonan,
Assistant Administrator for Research and Development.

[FR Doc. 00-11430 Filed 5-5-00; 8:45 am]

BILLING CODE 6560-50-P